NATIONAL AERONAUTICS AND SPACE ADMINISTRATION

Notice of Information Collection

AGENCY: National Aeronautics and Space Administration (NASA).

NOTICE: (16-021).

ACTION: Notice of information collection.

SUMMARY: The National Aeronautics and Space Administration developed the Technology Portfolio System (TechPort). TechPort is an integrated, Agency wide software system designed to capture, track, and manage NASA's portfolio of technology investments. TechPort provides detailed information on individual technology programs and projects throughout NASA. This system enables the public to explore NASA's technology portfolio and learn about technology Programs, and Projects, as NASA works to mature the technologies for aeronautics, space exploration, and scientific discovery missions. In March, 2015 NASA released a beta version of the system to allow the public the opportunity to give the system a trial run and provide feedback. This RFI solicits inputs on the beta version of TechPort.

DATES: The Web site, https://techport.nasa.gov/rfi, will open for comments beginning on March 14, 2016, and will close on April 14, 2016. No submissions will be accepted after April 14, 2016.

FOR FURTHER INFORMATION CONTACT: Requests for additional information or instructions should be directed to Faith Chandler, Director Strategic Integration, Office of the Chief Technologist, NASA Headquarters, 300 E Street SW., Washington, DC 20546, at HQ-TechPort@mail.nasa.gov.

SUPPLEMENTARY INFORMATION:

Title: NASA's Technology Portfolio System, TechPort, Beta Version Request for Information (RFI).

Abstract: NASA embraces the development and advancement of technology to support U.S. industries, enhance academic research, spur innovation, and promote the building and sharing of knowledge. By making technology development information easy to find, accessible, and usable, NASA will fuel entrepreneurship, innovation, and scientific discovery. Industry and academia will have insight into the technology portfolio, and will be able to use this information to identify possible areas of technology development collaboration, forecast when technologies may be released for public use and commercialization, and identify areas of aeronautics and aerospace technology development need. Information about NASA's technology development activities is a valuable national resource and a strategic asset that will expand the knowledge base, spur innovation in U.S. industry and help grow American businesses.

The general public can use TechPort to find technology Programs and Projects of interest and discover how these projects have led to breakthroughs and discoveries. TechPort is equipped with features that allow users to efficiently search technology Projects, conduct analysis, identify technology gaps, and generate comprehensive technology reports. TechPort was released as a beta system to provide the public with an opportunity to use the system and provide feedback, and influence the design and type of information provided in future versions of the system. The questions in this RFI gather input on the public experience with the TechPort system, specifically:

• The design of the system and ease of use,

• The features provided (search, reports, data sheets) and if the public finds them useful, and

• The content and the range of collected data in the system.

In addition to questions about using the system, this RFI will collect system information, including:

• Organization type (Academic Institution, Industry, Government or Public),

• Device and browser used to access TechPort.

Your system information will enable us to troubleshoot and understand problems, if our system is not functioning for all the intended users. Respondents will also be given the opportunity to provide their name and email address if they would like to be contacted with possible follow up questions. There are a total of 18 questions and it is expected that it will take about 5 to 10 minutes to complete. You may complete only one question, or all of the questions.

When arriving at the home page of the Web site titled: “TechPort—User Request for Information” located at: https://techport.nasa.gov/rfi respondents can proceed to answer the questions. Upon submission, respondents will get a notification of the receipt of their responses in their browser.

The respondent should NOT include information of a confidential nature, such as sensitive personal information or proprietary information.

Faith Chandler,
Director, Strategic Integration, Office of the Chief Technologist.

[FR Doc. 2016-05483 Filed 3-10-16; 8:45 am]

BILLING CODE 7510-13-P